DEPARTMENT OF ENERGY

Federal Energy Regulatory Commission

[Docket No. EC00-99-000, et al.]

Public Service Company of New Mexico, et al. Electric Rate and Corporate Regulation Filings

June 13, 2000.

Take notice that the following filings have been made with the Commission:

1. Public Service Company of New Mexico

[Docket No. EC00-99-000]

Take notice that on June 7, 2000, the Public Service Company of New Mexico (PNM) tendered for filing an application seeking Commission authorization for PNM's proposed reorganization of its existing businesses into a holding company structure as a means of achieving the corporate and asset separations required by electric industry retail restructuring legislation in New Mexico. PNM's new holding company will be named “Manzano Corporation.” Under the new structure PNM will be renamed “Manzano Energy Corporation,” and will be the subsidiary of Manzano Corporation that will retain PNM's interests in existing generation facilities, including Palo Verde Nuclear Generating Station, Four Corners Power Plant, and San Juan Generating Station, and will remain the seller under existing PNM wholesale sales agreements. A new subsidiary corporation, referred to in the filing as “UtilityCo” for convenience, will assume the name “Public Service Company of New Mexico” upon the effective date of the reorganization, and will be responsible for all functions related to transmission and distribution. PNM's reorganization will involve a transfer to UtilityCo of ownership of all of its electric transmission and distribution facilities (except for generator step-up transformers and leads, and certain interests in switchyard facilities at multi-owner generating stations which will be leased to UtilityCo) as well as operations related to natural gas transmission and distribution, and certain other “paper” facilities. UtilityCo will be subject to NMPRC regulation.

PNM has included in its application a request for a disclaimer of jurisdiction over transactions within the meaning of section 305(a) of the Federal Power Act.

Comment date: July 7, 2000, in accordance with Standard Paragraph E at the end of this notice.

2. Allegheny Energy Service Corporation, on behalf of Allegheny Energy Supply Company LLC

[Docket No. ER00-2696-001]

Take notice that on June 8, 2000, Allegheny Energy Service Corporation on behalf of Allegheny Energy Supply Company, LLC (Allegheny Energy Supply Company), tendered for filing Amendment No. 1 to Supplement No. 45 to complete the filing requirement for one (1) new Customer of the Market Rate Tariff under which Allegheny Energy Supply offers generation services.

Allegheny Energy requests a waiver of notice requirements to make service available as of February 2, 2000 to Entergy Power Marketing Corporation.

Copies of the filing have been provided to the Public Utilities Commission of Ohio, the Pennsylvania Public Utility Commission, the Maryland Public Service Commission, the Virginia State Corporation Commission, the West Virginia Public Service Commission, and all parties of record.

Comment date: June 28, 2000, in accordance with Standard Paragraph E at the end of this notice.

3. California Power Exchange Corporation

[Docket No. ER00-2735-000]

Take notice that on June 7, 2000, the California Power Exchange Corporation (CalPX), on behalf of its CalPX Trading Services Division (CTS), tendered for filing proposed changes to its CTS Rate Schedule FERC No. 1. Together these proposed changes constitute Amendment No. 4 to the CTS Rate Schedule. The purpose of Amendment No. 4 is to implement revised credit policies and rules with regard to participants in the markets operated by CTS.

CTS requests waiver of the Commission's regulations to permit an effective date of August 1, 2000.

Comment date: June 28, 2000, in accordance with Standard Paragraph E at the end of this notice.

4. California Power Exchange Corporation

[Docket No. ER00-2736-000]

Take notice that on June 7, 2000, the California Power Exchange Corporation (CalPX), tendered for filing proposed amendments to its FERC Electric Service Tariff No. 2, including changes to the main Tariff, Schedules 2, 6 and 7, and Appendix B thereof. Together these changes comprise Tariff Amendment No. 18. The purpose of Tariff Amendment No. 18 is to implement the redesign of CalPX's credit policies and rules.

CalPX requests waiver of the Commission's regulations to permit an effective date of August 1, 2000.

Comment date: June 28, 2000, in accordance with Standard Paragraph E at the end of this notice.

5. Entergy Nuclear Indian Point 3, LLC

[Docket No. ER00-2740-000]

Take notice that on June 7, 2000, Entergy Nuclear Indian Point 3, LLC (ENIP) tendered for filing an application for authorization to sell wholesale power at market-based rates. ENIP also requested that the Commission accept for filing a long-term power purchase agreement for the sale of power from ENIP to the New York Power Authority as a stand-alone rate schedule to its proposed market rate tariff.

Copies of this filing have been served on the New York Public Service Commission, Arkansas Public Service Commission, Mississippi Public Service Commission, Louisiana Public Service Commission, Texas Public Utility Commission, Council of the City of New Orleans and the New York Power Authority.

Comment date: June 28, 2000, in accordance with Standard Paragraph E at the end of this notice.

6. Carolina Power & Light Company

[Docket No. ER00-2741-000]

Take notice that on June 7, 2000, Carolina Power & Light Company (CP&L), tendered for filing Carolina Power & Light Company Second Revised FERC Electric Tariff No. 3 (Revised OATT) that replaces the existing Transmission Loading Relief (TLR) in the tariff with the revised TLR procedures promulgated by the North American Electric Reliability Council.

CP&L has requested that the revised TLR procedures become effective on March 1, 2000 and the remainder of the Revised OATT become effective June 7, 2000, the date of filing.

Comment date: June 28, 2000, in accordance with Standard Paragraph E at the end of this notice.

7. Southwestern Public Service Company

[Docket No. ER00-2749-000]

Take notice that on June 7, 2000, New Century Services, Inc., on behalf of Southwestern Public Service Company, submitted an Amended Network Transmission Service Agreement for service between the SPS Wholesale Merchant Function, on behalf of Cooperative Customers (Cap Rock Electric Cooperative, Inc., Central Valley Electric Cooperative, Inc., Farmers' Electric Cooperative, Inc., Lea County Electric Cooperative, Inc., Lyntegar Electric Cooperative, Inc., and Roosevelt Electric Cooperative, Inc.) and SPS Transmission Function.

SPS has requested that the Amended Service Agreement become effective on May 1, 2000.

Comment date: June 28, 2000, in accordance with Standard Paragraph E at the end of this notice.

8. Central Illinois Public Service Corporation

[Docket No. ER00-2750-000]

Take notice that on June 7, 2000, Central Illinois Public Service Corporation (AmerenCIPS), tendered for filing an Electric Power Sales Agreement between AmerenCIPS and Ameren Energy Marketing Company (Marketing Co.) dated June 7, 2000 (the Agreement). AmerenCIPS states that under the Agreement, it will resell to Marketing Co., all of the capacity and associated energy that it purchases from Electric Energy, Inc. (EEInc.), pursuant to a Power Supply Agreement with EEInc. AmerenCIPS further states that the rates under which power is being sold to Marketing Co. will constitute a pass-through of charges to it by EEInc.

AmerenCIPS is proposing to make the Agreement effective as of June 8, 2000.

Comment date: June 28, 2000, in accordance with Standard Paragraph E at the end of this notice.

9. Allegheny Energy Service Corporation, on behalf of Allegheny Energy Supply Company, LLC

[Docket No. ER00-2751-000]

Take notice that on June 7, 2000, Allegheny Energy Service Corporation on behalf of Allegheny Energy Supply Company, LLC (Allegheny Energy Supply), tendered for filing Amendment No. 4 to Supplement No. 8 to the Market Rate Tariff to incorporate a Netting Agreement with Engage Energy US, L.P., into the tariff provisions.

Allegheny Energy Supply Company requests a waiver of notice requirements to make the Amendment effective as of May 12, 2000.

Copies of the filing have been provided to the Public Utilities Commission of Ohio, the Pennsylvania Public Utility Commission, the Maryland Public Service Commission, the Virginia State Corporation Commission, the West Virginia Public Service Commission, and all parties of record.

Comment date: June 28, 2000, in accordance with Standard Paragraph E at the end of this notice.

10. Ameren Services Company

[Docket No. ER00-2752-000]

Take notice that on June 7, 2000, Ameren Services Company (ASC), tendered for filing Service Agreements for Firm Point-to-Point Transmission Services between ASC and Amerada Hess Corporation, Conectiv Energy Supply, Inc., and Allegheny Energy Supply Company, LLC (the parties). ASC asserts that the purpose of the Agreements is to permit ASC to provide transmission service to the parties pursuant to Ameren's Open

Comment date: June 28, 2000, in accordance with Standard Paragraph E at the end of this notice.

11. Allegheny Energy Service Corporation on behalf of Allegheny Energy Supply Company, LLC

[Docket No. ER00-2753-000]

Take notice that on June 7, 2000, Allegheny Energy Service Corporation on behalf of Allegheny Energy Supply Company, LLC (Allegheny Energy Supply), tendered for filing Supplement No. 48 to add one (1) new Customer to the Market Rate Tariff under which Allegheny Energy Supply offers generation services.

Allegheny Energy Supply requests a waiver of notice requirements to make service available as of May 11, 2000 to South Carolina Electric & Gas Company.

Copies of the filing have been provided to the Public Utilities Commission of Ohio, the Pennsylvania Public Utility Commission, the Maryland Public Service Commission, the Virginia State Corporation Commission, the West Virginia Public Service Commission, and all parties of record.

Comment date: June 28, 2000, in accordance with Standard Paragraph E at the end of this notice.

12. Northern States Power Company (Minnesota) Northern States Power Company (Wisconsin)

[Docket No. ER00-2765-000]

Take notice that on June 5, 2000, Northern States Power Company (Minnesota) and Northern States Power Company (Wisconsin) (jointly NSP), tendered for filing a Non-Firm and a Short-Term Firm Point-to-Point Transmission Service Agreement between NSP and Conectiv Energy Supply, Inc.

NSP requests that the Commission accept the Agreement effective May 16, 2000, and requests waiver of the Commission's notice requirements in order for the agreements to be accepted for filing on the date requested.

Comment date: June 29, 2000, in accordance with Standard Paragraph E at the end of this notice.

13. Detroit Edison Company

[Docket No. ER00-2766-000]

Take notice that on June 8, 2000, The Detroit Edison Company (Detroit Edison) tendered for filing an interconnection and operation agreement between Detroit Edison Company and DTE River Rouge No. 1, L.L.C.

Detroit Edison requests waiver of the Commission's notice requirements necessary to permit the Interconnection Agreement to be made effective as June 9, 2000.

Copies of this filing have been served on DTE River Rouge and the Michigan Public Service Commission.

Comment date: June 29, 2000, in accordance with Standard Paragraph E at the end of this notice.

14. Duke Energy Corporation

[Docket No. ER00-2767-000]

Take notice that on June 8, 2000, Duke Energy Corporation (Duke), tendered for filing a Service Agreement with Cinergy Services, Inc., for Transmission Service under Duke's Open Access Transmission Tariff.

Duke requests that the proposed Service Agreement be permitted to become effective on June 5, 2000.

Duke states that this filing is in accordance with Part 35 of the Commission's Regulations and a copy has been served on the North Carolina Utilities Commission.

Comment date June 29, 2000, in accordance with Standard Paragraph E at the end of this notice.

15. Western Resources, Inc. Kansas Gas and Electric Company

[Docket No. ER-2768-000]

Take notice that on June 8, 2000, Western Resources, Inc. (Western Resources) and Kansas Gas and Electric Company (KGE), tendered for filing the Fourth Supplement to the Electric Interconnection Contract (Contract) dated July 19, 1962 between Western Resources (formerly, The Kansas Power and Light Company) and KGE. Western Resources and KGE state that the purpose of this filing is to add an additional point of interconnection to the Contract.

Western Resources and KGE request an effective date of June 2, 2000.

Copies of the filing were served upon the Kansas Corporation Commission.

Comment date: June 29, 2000, in accordance with Standard Paragraph E at the end of this notice.

16. MidAmerican Energy Company

[Docket No. ER00-2769-000]

Take notice that on June 8, 2000, MidAmerican Energy Company (MidAmerican), 666 Grand Avenue, Des Moines, Iowa 50309, tendered for filing with the Commission a Second Amendment to Power Sales Agreement (Amendment), dated April 27, 2000, entered into by MidAmerican and Waverly Light and Power, pursuant to MidAmerican's Open Access Transmission Tariff.

MidAmerican requests an effective date of June 9, 2000, for the Amendment and seeks a waiver of the Commission's notice requirement.

MidAmerican has served a copy of the filing on Waverly Light and Power, the Iowa Utilities Board, the Illinois Commerce Commission and the South Dakota Public Utilities Commission.

Comment date: June 29, 2000, in accordance with Standard Paragraph E at the end of this notice.

17. Duke Energy Corporation

[Docket No. ER00-2770-000]

Take notice that on June 8, 2000, Duke Energy Corporation (Duke), tendered for filing a Service Agreement with Cargill-Alliant, LLC for Transmission Service under Duke's Open Access Transmission Tariff.

Duke requests that the proposed Service Agreement be permitted to become effective on June 5, 2000.

Duke states that this filing is in accordance with Part 35 of the Commission's Regulations and a copy has been served on the North Carolina Utilities Commission.

Comment date: June 29, 2000, in accordance with Standard Paragraph E at the end of this notice.

18. Duke Energy Corporation

[Docket No. ER00-2771-000]

Take notice that on June 8, 2000, Duke Energy Corporation (Duke), tendered for filing a Service Agreement with Koch Energy Trading, Inc., for Transmission Service under Duke's Open Access Transmission Tariff.

Duke requests that the proposed Service Agreement be permitted to become effective on May 16, 2000.

Duke states that this filing is in accordance with Part 35 of the Commission's Regulations and a copy has been served on the North Carolina Utilities Commission.

Comment date: June 29, 2000, in accordance with Standard Paragraph E at the end of this notice.

19. Public Service Company of New Mexico

[Docket No. ER00-2772-000]

Take notice that on June 8, 2000, Public Service Company of New Mexico (PNM), tendered for filing an executed service agreement, for electric power and energy sales at negotiated rates under the terms of PNM's Power and Energy Sales Tariff, with the Golden Spread Electric Cooperative, Inc. (dated May 13, 2000).

PNM's filing is available for public inspection at its offices in Albuquerque, New Mexico.

Copies of the filing have been sent to the Golden Spread Electric Cooperative, Inc. and to the New Mexico Public Regulation Commission.

Comment date: June 28, 2000, in accordance with Standard Paragraph E at the end of this notice.

20. MidAmerican Energy Company

[Docket No. ER00-2774-000]

Take notice that on June 8, 2000, MidAmerican Energy Company (MidAmerican), 666 Grand Avenue, Des Moines, Iowa 50309, tendered for filing with the Commission a First Amendment to Power Sales Agreement (Amendment), dated April 26, 2000, entered into by MidAmerican and City of Montezuma, Iowa, pursuant to MidAmerican's Open Access Transmission Tariff.

MidAmerican requests an effective date of June 9, 2000 for the Amendment and seeks a waiver of the Commission's notice requirement. MidAmerican has served a copy of the filing on the City of Montezuma, Iowa, the Iowa Utilities Board, the Illinois Commerce Commission and the South Dakota Public Utilities Commission.

Comment date: June 29, 2000, in accordance with Standard Paragraph E at the end of this notice.

21. MidAmerican Energy Company

[Docket No. ER00-2775-000]

Take notice that on June 29, 2000, MidAmerican Energy Company (MidAmerican), 666 Grand Avenue, Des Moines, Iowa 50309, tendered with the Commission a First Amendment to Electric Interchange and Interconnection Agreement (Amendment), dated April 26, 2000, entered into by MidAmerican and Indianola Waterworks and Electric Light and Power Board of Trustees, pursuant to MidAmerican's Open Access Transmission Tariff.

MidAmerican requests an effective date of June 9, 2000 for the Amendment and seeks a waiver of the Commission's notice requirement.

MidAmerican has served a copy of the filing on the Indianola Waterworks and Electric Light and Power Board of Trustees, the Iowa Utilities Board, the Illinois Commerce Commission and the South Dakota Public Utilities Commission.

Comment date: June 29, 2000, in accordance with Standard Paragraph E at the end of this notice.

22. Citizens Utilities Company

[Docket No. ER00-2776-000]

Take notice on that on June 8, 2000, Citizens Utilities Company tendered for filing its compliance filing pursuant to the Commission's order in North American Electric Reliability Council, et al., 91 FERC ¶ 61,122 (2000).

Comment date: June 29, 2000, in accordance with Standard Paragraph E at the end of this notice.

23. New Century Services, Inc.

[Docket No. ER00-2777-000]

Take notice that on June 8, 2000, New Century Services, Inc. (NCS), tendered for filing notice that the New Century Operating Companies will adopt as part of their open-access transmission tariff the revisions to the Transmission Loading Relief procedures filed by the North American Electric Reliability Council and accepted by FERC in North American Electric Reliability Council, 91 FERC ¶ 61,122 (2000). NCS states that these procedures will apply only with respect to service provided on the Southwestern Public Service Company transmission system, which is located in the Eastern Interconnection.

Comment date: June 29, 2000, in accordance with Standard Paragraph E at the end of this notice.

24. Boston Edison Company, Cambridge Electric Light Company, Commonwealth Electric Company

[Docket No. ER00-2778-000]

Take notice that on June 8, 2000, Boston Edison Company, Cambridge Electric Light Company, and Commonwealth Electric Company (the NSTAR Companies), tendered for filing a joint notification as directed by the Commission in its Order in Docket No. ER00-1666-000 on May 8, 2000 at 91 FERC ¶ 61,122 that the Commission should consider the respective NSTAR companies' open access transmission tariffs as modified by the revised North American Electric Reliability Council Transmission Loading Relief Procedures accepted for filing by that Order.

Comment date: June 29, 2000, in accordance with Standard Paragraph E at the end of this notice.

25. Northern/AES Energy, LLC

[Docket No. ER00-2779-000]

Take notice that on June 8, 2000, Northern/AES Energy, LLC (NAES), tendered for filing a letter requesting Commission approval of NAES'; assignment of its membership in the Western Systems Power Pool (WSPP) to Split Rock Energy LLC. Such assignment is allowed under Section 14 of the WSPP Agreement.

A copy of the filing was served upon the General Counsel to the WSPP.

Comment date June 29, 2000, in accordance with Standard Paragraph E at the end of this notice.

26. PJM Interconnection, L.L.C.

[Docket No. ER00-2780-000]

Take notice that on June 7, 2000, PJM Interconnection, L.L.C. (PJM), tendered for filing a notice pursuant to the Commission's order in North American Electric Reliability Council, 91 FERC ¶ 61,122 (May 8, 2000), that its Open Access Transmission Tariff is considered modified to adopt the revised North American Electric Reliability Council's transmission loading relief procedures.

Copies of this filing were served upon the parties to Docket No. ER00-1666.

Comment date: June 28, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-15484 Filed 6-19-00; 8:45 am]

BILLING CODE 6717-01-P